DEPARTMENT OF COMMERCE

International Trade Administration

[C-122-858]

Certain Softwood Lumber Products From Canada: Notice of Amended Final Results of Countervailing Duty Administrative Review; 2020; Correction

AGENCY: Enforcement and Compliance, International Trade Administration, Department of Commerce.

SUMMARY: On October 11, 2022, the U.S. Department of Commerce (Commerce) published a notice in the Federal Register, in which Commerce amended its notice of final results for the 2020 administrative review of the countervailing duty (CVD) order on certain softwood lumber products (softwood lumber) from Canada. This notice inadvertently contained an incorrect rate applicable to companies not selected for individual examination in the 2020 administrative review (non-selected companies).

DATES: Applicable October 21, 2022.

FOR FURTHER INFORMATION CONTACT: John Hoffner, AD/CVD Operations, Office III, Enforcement and Compliance, International Trade Administration, U.S. Department of Commerce, 1401 Constitution Avenue NW, Washington, DC 20230; telephone: (202) 482-3315.

SUPPLEMENTARY INFORMATION:

Correction

In the Federal Register of October 11, 2022, in FR Doc 2022-22001, on page 61291, in the first and second columns, Commerce listed an incorrect subsidy rate of 3.38 percent applicable to non-selected companies subject to the 2020 review in the paragraphs “Background” and “Cash Deposit Rates.” ¹ The correct subsidy rate applicable to non-selected companies subject to the 2020 administrative review is 3.83 percent.

¹ See Certain Softwood Lumber Products from Canada: Notice of Amended Final Results of Countervailing Duty Administrative Review; 2020, 87 FR 61290, 61291 (October 11, 2022) (Amended Final Results).

Background

On August 9, 2022, Commerce published the final results of the 2020 administrative review of the CVD order on softwood lumber from Canada.² October 11, 2022, Commerce issued an amendment to the final results to confirm that the following companies are included among the firms subject to the CVD administrative review covering the 2020 period of review and are among the non-selected companies subject to a subsidy rate: Coast Clear Wood Ltd.; Coulson Manufacturing Ltd.; Halo Sawmill, a division of Delta Cedar Specialties Ltd.; Mainland Sawmill, a division of Terminal Forest Products Ltd.; and Pine Ideas Ltd.³ In the Amended Final Results, Commerce incorrectly listed the subsidy rate for non-selected companies as 3.38 percent, while the correct rate is 3.83 percent.⁴ This notice serves as a notification of, and correction to, this inadvertent error. With the issuance of this notice of correction, we confirm that the subsidy rate for non-selected companies as a result of the 2020 administrative review is 3.83 percent.

² See Certain Softwood Lumber Products from Canada: Final Results and Final Rescission, in Part, of the Countervailing Duty Administrative Review, 2020, 87 FR 48455, 48458-59 (August 9, 2022).

³ See Amended Final Results, 87 FR at 61290.

⁴ Id., 87 FR at 61291.

Notification to Interested Parties

This notice is issued and published in accordance with sections 751(a)(1) and 777(i) of the Tariff Act of 1930, as amended.

Dated: October 17, 2022.
Ryan Majerus,
Deputy Assistant Secretary for Policy and Negotiations.

[FR Doc. 2022-22856 Filed 10-20-22; 8:45 am]

BILLING CODE 3510-DS-P